DEPARTMENT OF TRANSPORTATION

Federal Aviation Administration

14 CFR Part 97

[Docket No. 30869 ; Amdt. No. 3504]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective December 3, 2012. The compliance date for each SIAP, associated Takeoff Minimums, and ODP is specified in the amendatory provisions.

The incorporation by reference of certain publications listed in the regulations is approved by the Director of the Federal Register as of December 3, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on October 26, 2012.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 13 December 2012

Fayetteville, AR, Drake Field, LDA/DME RWY 34, Amdt 4

Hutchinson, KS, Hutchinson Muni, ILS OR LOC RWY 13, Amdt 16C

* * * Effective 10 January 2013

Gustavus, AK, Gustavus, RNAV (GPS) Y RWY 29, Amdt 1

Middleton Island, AK, Middleton Island, Takeoff Minimums and Obstacle DP, Orig-A

Middleton Island, AK, Middleton Island, VOR RWY 2, Amdt 3A

Middleton Island, AK, Middleton Island, VOR/DME RWY 20, Amdt 6A

Tatitlek, AK, Tatitlek, Takeoff Minimums and Obstacle DP, Orig-A

Birmingham, AL, Birmingham-Shuttlesworth Intl, Takeoff Minimums and Obstacle DP, Amdt 7

Bentonville, AR, Bentonville Muni/Louise M Thaden Field, RNAV (GPS) RWY 18, Amdt 1

Bentonville, AR, Bentonville Muni/Louise M Thaden Field, RNAV (GPS) RWY 36, Amdt 1

Bentonville, AR, Bentonville Muni/Louise M Thaden Field, VOR-A, Amdt 13

Bentonville, AR, Bentonville Muni/Louise M Thaden Field, VOR/DME-B, Amdt 6

Meriden, CT, Meriden Markham Muni, GPS RWY 36, Orig-A, CANCELED

Meriden, CT, Meriden Markham Muni, RNAV (GPS) RWY 36, Orig

St Marys, GA, St Marys, Takeoff Minimums and Obstacle DP, Amdt 4

Tifton, GA, Henry Tift Myers, NDB RWY 33, Amdt 1A

Tifton, GA, Henry Tift Myers, RNAV (GPS) RWY 28, Orig-A

Tifton, GA, Henry Tift Myers, RNAV (GPS) RWY 33, Orig-B

Tifton, GA, Henry Tift Myers, VOR RWY 28, Amdt 10A

Tifton, GA, Henry Tift Myers, VOR RWY 33, Amdt 11C

Lewiston, ID, Lewiston-Nez Perce County, ILS RWY 26, Amdt 13

Salem, IL, Salem-Leckrone, Takeoff Minimums and Obstacle DP, Amdt 7

Alexandria, LA, Esler Rgnl, ILS OR LOC/DME RWY 27, Amdt 16

Alexandria, LA, Esler Rgnl, NDB RWY 27, Amdt 1, CANCELED

Alexandria, LA, Esler Rgnl, RNAV (GPS) RWY 9, Amdt 2

Alexandria, LA, Esler Rgnl, RNAV (GPS) RWY 27, Amdt 2

Millinocket, ME, Millinocket Muni, NDB RWY 29, Amdt 4, CANCELED

Butler, MO, Butler Memorial, GPS RWY 18, Orig-B, CANCELED

Butler, MO, Butler Memorial, RNAV (GPS) RWY 18, Orig

Butler, MO, Butler Memorial, RNAV (GPS) RWY 36, Orig

Butler, MO, Butler Memorial, VOR-A, Amdt 5

Deer Lodge, MT, Deer Lodge-City-County, RNAV (GPS)-A, Orig

Deer Lodge, MT, Deer Lodge-City-County, Takeoff Minimums and Obstacle DP, Orig

Mount Olive, NC, Mount Olive Muni, VOR-A, Amdt 2

Tioga, ND, Tioga Muni, RNAV (GPS) RWY 30, Amdt 1

Albuquerque, NM, Albuquerque Intl Sunport, RNAV (RNP) Y RWY 26, Orig

Taos, NM, Taos Rgnl, Takeoff Minimums and Obstacle DP, Amdt 1

Mount Pocono, PA, Pocono Mountains Muni, RNAV (GPS) RWY 13, Amdt 3

Mount Pocono, PA, Pocono Mountains Muni, RNAV (GPS) RWY 31, Amdt 2

Florence, SC, Florence Rgnl, RADAR-1, Amdt 1, CANCELED

Marlin, TX, Marlin, Takeoff Minimums and Obstacle DP, Orig

Olney, TX, Olney Muni, GPS RWY 17, Orig, CANCELED

Olney, TX, Olney Muni, RNAV (GPS) RWY 17, Orig

Olney, TX, Olney Muni, RNAV (GPS) RWY 35, Orig

Olney, TX, Olney Muni, Takeoff Minimums and Obstacle DP, Orig

Spokane, WA, Spokane Intl, ILS OR LOC RWY 3, ILS RWY 3 (SA CAT I), ILS RWY 3 (CAT II), ILS RWY 3 (CAT III), Amdt 6A

Mosinee, WI, Central Wisconsin, Takeoff Minimums and Obstacle DP, Amdt 1

RESCINDED: On October 15, 2012 (77 FR 62429), the FAA published an Amendment in Docket No. 30864, Amdt No. 3499 to Part 97 of the Federal Aviation Regulations under section 97.33. The following entry for Mount Olive, NC, effective 15 November, 2012, is hereby rescinded in its entirety:

Mount Olive, NC, Mount Olive Muni, VOR-A, Amdt 2

[FR Doc. 2012-28988 Filed 11-30-12; 8:45 am]

BILLING CODE 4910-13-P